DEPARTMENT OF LABOR

Employment and Training Administration

[TA-W-52,258]

Block Drug Co., a.k.a Glaxo Smith Kline, Jersey City, NJ, Notice of Termination of Investigation

Pursuant to section 221 of the Trade Act of 1974, an investigation was initiated on July 9, 2003, in response to a petition filed on behalf of workers at Block Drug Co., a.k.a Glaxo Smith Kline, Jersey City, New Jersey.

The company official who filed the petition requested that the petition be withdrawn. Consequently, further investigation in this case would serve no purpose and the investigation has been terminated.

Signed in Washington, DC this 11th day of July 2003.
Elliott S. Kushner,
Certifying Officer, Division of Trade Adjustment Assistance.

[FR Doc. 03-18810 Filed 7-23-03; 8:45 am]

BILLING CODE 4510-30-P